DEPARTMENT OF THE INTERIOR

Fish and Wildlife Service

[FWS-R9-MB-2011-N197; 91200-1231-9BPP-L2]

Information Collection Request Sent to the Office of Management and Budget (OMB) for Approval; Conservation Order for Light Geese

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on October 31, 2011. We may not conduct or sponsor and a person is not required to respond to a collection of information unless it displays a currently valid OMB control number. However, under OMB regulations, we may continue to conduct or sponsor this information collection while it is pending at OMB.

DATES: You must submit comments on or before November 28, 2011.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS 2042-PDM, 4401 North Fairfax Drive, Arlington, VA 22203 (mail), or INFOCOL@fws.gov (email). Please include “1018-0103” in the subject line of your comments.

FOR FURTHER INFORMATION CONTACT: To request additional information about this ICR, contact Hope Grey at INFOCOL@fws.gov (email) or (703) 358-2482 (telephone). You may view the ICR online at http://www.reginfo.gov. Follow the instructions to view Department of the Interior collections under review by OMB.

SUPPLEMENTARY INFORMATION: OMB Control Number: 1018-0103.

Title: Conservation Order for Light Geese, 50 CFR 21.60.

Service Form Number(s): None.

Type of Request: Revision of a currently approved collection.

Description of Respondents: State and tribal governments; individuals who participate in the conservation order.

Respondent's Obligation: Required to obtain or retain a benefit.

Frequency of Collection: Annually.

Activity/requirement | Annual number of respondents | Total annual responses | Completion time per response | Total annual burden hours
States—collect information, maintain records, prepare annual report | 39 | 39 | 74 hours | 2,886
Participants—provide information to States | 21,538 | 21,538 | 10 minutes | 3,590
Total | 21,577 | 21,577 |  | 6,476

Estimated Annual Nonhour Burden Cost: $97,500, primarily for State overhead costs (materials, printing, postage, etc.).

Abstract: The number of light geese (lesser snow, greater snow, and Ross' geese) in the midcontinent region has nearly quadrupled during the past several decades, due to a decline in adult mortality and an increase in winter survival. We refer to these species and subspecies as light geese because of their light coloration, as opposed to dark geese, such as white-fronted or Canada geese. Because of their feeding activity, light geese have become seriously injurious to their habitat, as well as to habitat important to other migratory birds. This poses a serious threat to the short- and long-term health and status of some migratory bird populations. We believe that the number of light geese in the midcontinent region has exceeded long-term sustainable levels for their arctic and subarctic breeding habitats, and that the populations must be reduced. Title 50 Code of Federal Regulations (CFR) part 21 provides authority for the management of overabundant light geese.

Regulations at 50 CFR 21.60 authorize States and tribes in the midcontinent and Atlantic flyway regions to control light geese within the United States through the use of alternative regulatory strategies. The conservation order authorizes States and tribes to implement population control measures without having to obtain a Federal permit, thus significantly reducing their administrative burden. The conservation order is a streamlined process that affords an efficient and effective population reduction strategy, rather than addressing the issue through our permitting process. Furthermore, this strategy precludes the use of more drastic and costly direct population-reduction measures such as trapping and culling geese. States and tribes participating in the conservation order must:

• Designate participants and inform them of the requirements and conditions of the conservation order. Individual States and tribes determine the method to designate participants and how they will collect information from participants.

• Keep records of activities carried out under the authority of the conservation order, including:

(1) Number of persons participating in the conservation order;

(2) Number of days that people participated in the conservation order;

(3) Number of persons who pursued light geese with the aid of a shotgun capable of holding more than three shells;

(4) Number of persons who pursued light geese with the aid of an electronic call;

(5) Number of persons who pursued light geese during the period one-half hour after sunset;

(6) Total number of light geese shot and retrieved during the conservation order;

(7) Number of light geese taken with the aid of an electronic call;

(8) Number of light geese taken with the fourth, fifth, or sixth shotgun shell;

(9) Number of light geese taken during the period one-half hour after sunset; and

(10) Number of light geese shot, but not retrieved.

• Submit an annual report summarizing the activities conducted under the conservation order on or before September 15 of each year. Tribal information can be incorporated in State reports to reduce the number of reports submitted.

Comments: On May 24, 2011, we published in the Federal Register (76 FR 30188) a notice of our intent to request that OMB renew approval for this information collection. In that notice, we solicited comments for 60 days, ending on July 25, 2011. We received five public comments, including one from an individual who was opposed to the population reduction program, but did not comment on the information collection itself.

We received comments from the Wyoming Game and Fish Department, the Atlantic Flyway Council, Mississippi Flyway Council, and the Central Flyway Council. Flyway Councils are comprised of all State wildlife agencies within each respective administrative Flyway. The State of Wyoming and the three Flyway Councils agreed that it was important to estimate the number of citizens participating in the conservation order, as well as actual light goose harvest. However, all commenters recommended that variables related to methods of take should be evaluated for their continued usefulness and potentially discontinued from the information collection. They recommended that only information on hunter numbers and light goose harvest be collected. Commenters also stressed that individual States use different methodologies for obtaining information and that simply adding estimates from disparate methodologies leads to overall estimates that are not as reliable as would be liked. Commenters believed the Service should take over responsibility for data collection, possibly through the Service's Harvest Information Program (HIP).

Response: Implementation of the light goose conservation order required using new methods of take that were controversial because historically they had been illegal during normal hunting seasons. For that reason, we required information be collected on the use of such tools so that we could evaluate their effectiveness. We agree that information collected to date should be fully evaluated and that the utility of continued information collection for those variables should be analyzed. Discontinuation of information collection on those variables would require rulemaking to reduce the number of specific requirements outlined in 50 CFR 21.60. During discussions with Flyway Councils regarding initiation of the conservation order, there were concerns about whether or not a national collection should be developed for the conservation order. That approach was not pursued due to the need to develop a Federal permit. It was decided that each State would conduct its own collection. Although State harvest estimates may not be fully comparable, we believe that summation of such estimates is warranted for general monitoring purposes.

We are still awaiting a report from the Arctic Goose Habitat Working Group of the Arctic Goose Joint Venture to determine the best method of collecting data to provide the highest quality of information in the most efficient way possible. We feel it is important to wait for and consider the findings of this report because the Joint Venture is comprised of many of our management partners.

Our Harvest Information Program is geared towards estimating harvest of birds during regular hunting seasons that end on or before March 10 each year. Many States hold their light goose conservation order (not a regular hunting season) after March 10. Therefore, if HIP were used to estimate light goose conservation order harvest, our annual HIP reports would be delayed and could affect the normal hunting regulations promulgation process. The Service can only require HIP registration for regular hunting seasons. There is no current mechanism for the Service to require HIP registration for conservation order participants.

We have not made any changes to the information collection requirements at this time. We will continue to work with the States, Flyway Councils, and the Arctic Goose Joint Venture to determine the best method of collecting data to provide the highest quality information in the most efficient way possible.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 24, 2011.
Tina A. Campbell,
Chief, Division of Policy and Directives Management, U.S. Fish and Wildlife Service.

[FR Doc. 2011-27918 Filed 10-27-11; 8:45 am]

BILLING CODE 4310-55-P